DEPARTMENT OF EDUCATION

Applications for New Awards; Personnel Development To Improve Services and Results for Children With Disabilities—Interdisciplinary Preparation in Special Education, Early Intervention, and Related Services for Personnel Serving Children With Disabilities Who Have High-Intensity Needs

AGENCY: Office of Special Education and Rehabilitative Services, Department of Education.

ACTION: Notice.

Overview Information

Personnel Development To Improve Services and Results for Children With Disabilities—Interdisciplinary Preparation in Special Education, Early Intervention, and Related Services for Personnel Serving Children With Disabilities Who Have High-Intensity Needs.

Notice inviting applications for a new award for fiscal year (FY) 2017.

Catalog of Federal Domestic Assistance (CFDA) Number: 84.325K.

Dates:

Applications Available: January 3, 2017.

Deadline for Transmittal of Applications: March 6, 2017.

Deadline for Intergovernmental Review: May 3, 2017.

Full Text of Announcement

I. Funding Opportunity Description

Purpose of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Priority: In accordance with 34 CFR 75.105(b)(2)(v), this priority is from allowable activities specified in the statute (see sections 662 and 681 of the Individuals with Disabilities Education Act (IDEA)).

Absolute Priority: For FY 2017 and any subsequent year in which we make awards from the list of unfunded applications from this competition, this priority is an absolute priority. Under 34 CFR 75.105(c)(3), we consider only applications that meet this priority.

This priority is: Interdisciplinary Preparation in Special Education, Early Intervention, and Related Services for Personnel Serving Children With Disabilities Who Have High-Intensity Needs.

Background: The purpose of this priority is to increase the number and improve the quality of personnel who are fully credentialed to serve children, including infants and toddlers, with disabilities who have high-intensity needs,¹ especially in areas of chronic personnel shortage. The priority will fund high-quality interdisciplinary ² projects that prepare special education, early intervention, and related services personnel at the master's, specialist, or clinical doctoral levels for professional practice in classrooms and school settings.

¹ For the purposes of this priority, “high-intensity needs” refers to a complex array of disabilities (e.g., multiple disabilities, significant cognitive disabilities, significant physical disabilities, significant sensory disabilities, significant autism, significant emotional disabilities, significant learning disabilities, including dyslexia) or needs of children with these disabilities requiring intensive, individualized intervention(s) (i.e., that are specifically designed to address persistent learning or behavior difficulties, implemented with greater frequency and for an extended duration than is commonly available in a typical classroom or early intervention setting, or which requires personnel to have knowledge and skills in identifying and implementing multiple interventions supported by evidence).

² For the purposes of this priority, “interdisciplinary” refers to preparing two or more disciplines together through shared coursework, group assignments, and coordinated field experiences.

State demand for fully credentialed special education, early intervention, and related services personnel to serve infants, toddlers, children, and youth with disabilities exceeds the available supply, particularly in high-need schools ³ (Boe, deBettencourt, Rosenberg, Sindelar, & Leko, 2013). These shortages can negatively affect the quality of services provided to infants, toddlers, children, and youth with disabilities and their families (Boe et al., 2013).

³ For the purposes of this priority, the term “high-need school” refers to a public elementary or secondary school that is a “high-poverty” or “low-performing” school as defined in footnotes 6 and 7, respectively.

The need for personnel with the knowledge and skills to serve children with disabilities who have high-intensity needs is even greater because specialized or advanced preparation is required to collaboratively design and support focused instruction and intensive individualized intervention(s) that address the needs of these children (Boe et al., 2013; Browder, Wood, Thompson, & Ribuffo, 2014; McLeskey & Brownell, 2015). Although children with disabilities who have high-intensity needs may require the combined expertise of numerous professionals (including special education, early intervention, and related services providers), it is often difficult for personnel from varied professional backgrounds to work together because they lack shared information, understanding, and experience.

Interdisciplinary approaches to personnel preparation provide scholars with experience working and learning in team environments similar to those in which they are likely to work once employed (Smith, 2010). For example, under the IDEA, personnel serving children with disabilities will work on interdisciplinary teams with parent(s), general and special education teachers, early intervention, and related service providers with the expertise convened to design, implement, and evaluate intervention plans based on the unique learning and developmental needs of each individual child. To enable personnel to provide efficient, high-quality integrated services, personnel preparation programs need to embed content, practices, and clinical experience into preservice training that will match the interdisciplinary team-based approaches in which graduates are likely to work. This priority aims to fund interdisciplinary projects that will provide such preparation.

Priority: The purpose of this priority is to increase the number and improve the quality of personnel who are fully credentialed to serve children, including infants and toddlers, with disabilities who have high-intensity needs—especially in areas of chronic personnel shortage. The priority will fund high-quality interdisciplinary projects that prepare special education, early intervention, and related services personnel at the master's, specialist, or clinical doctoral levels for professional practice in classrooms and school settings.

An applicant must propose an interdisciplinary project in special education, early intervention, or related services. An interdisciplinary project is a project that delivers core content through shared coursework, group assignments, and coordinated clinical experiences as part of master's, specialist, or clinical doctoral degree programs for scholars ⁴ across two or more disciplines and that leads to licensure, endorsement, or certification. Not all degree-program requirements (e.g., courses, seminars, and clinical experiences) must be shared across disciplines, but the project must: (a) Identify the competencies needed to address the individualized needs of children with disabilities who have high-intensity needs using an interdisciplinary approach to service delivery; and (b) outline how the project will build capacity in those areas through shared coursework, group assignments, and coordinated clinical experiences for scholars supported by the proposed project. Projects may include individuals who are in degree programs (e.g., general education) that are cooperating with, but not funded by, the applicant's proposed project in the interdisciplinary coursework, group assignments, coordinated field experiences, and other opportunities funded by the project (e.g., speaker series, monthly seminars) if doing so does not diminish the benefit for project-funded scholars (e.g., by reducing funds available for scholar support or limiting opportunities for scholars to participate in project activities).

⁴ For the purposes of this priority, the term “scholar” means an individual who is pursuing a degree, license, endorsement, or certification related to special education, related services, or early intervention services and who receives scholarship assistance under section 662 of IDEA (see 34 CFR 304.3(g)). Individuals pursuing degrees in general education do not qualify as “scholars” eligible for scholarship assistance.

Note: Personnel preparation programs that prepare individuals to be educational interpreters for the deaf at the bachelor's degree level can qualify under this priority without an interdisciplinary partner.

Note: The first year of the project period and up to $100,000 of Federal funds may be used for program planning. Planning activities during the first year could include outlining shared coursework, group assignments, or coordinated clinical experiences designed to: (a) Build the knowledge, skills, and competencies that personnel from each discipline participating in the project will need to work collaboratively with other general and special education teachers, early intervention, and related services providers to design and deliver the focused instruction and intense individualized intervention(s) needed to address the individualized needs of children with disabilities who have high-intensity needs and (b) enhance the competency of beginning practitioners with master's, specialist, or clinical doctoral degrees in special education, early intervention, or related services to collaborate on interdisciplinary teams.

To be considered for funding under this absolute priority, all program applicants must meet the application requirements contained in the priority. All projects funded under this absolute priority also must meet the programmatic and administrative requirements specified in the priority.

The requirements of this priority are as follows:

(a) Demonstrate, in the narrative section of the application under “Significance of the Project,” how—

(1) The project addresses national, State, regional, or district shortages of personnel who are fully qualified to serve children with disabilities, ages birth through 21, who have high-intensity needs. To address this requirement, the applicant must—

(i) Present data on the effectiveness of each special education, early intervention, or related services personnel preparation program participating in the project in areas such as: The average amount of time it takes for scholars to complete the program; the percentage of program graduates who receive a license, endorsement, or certification related to special education, related services, or early intervention services; the percentage of program graduates finding employment related to their preparation after graduation; the effectiveness of program graduates in providing special education, early intervention, or related services, which could include data on the learning and developmental outcomes of children with disabilities they serve; the percentage of program graduates who maintain employment for two or more years in the area for which they were prepared and who are fully qualified under IDEA; and the percentage of graduates and their employers who report that program graduates received adequate preparation to provide high quality special education, early intervention, or related services; and

(ii) If available, present data on the effectiveness of interdisciplinary approaches to the preparation of special education, early intervention, or related services personnel that involve the programs participating in the proposed project.

Note: Data on the effectiveness of a personnel preparation program should be no older than five years prior to the start date of the project proposed in the application. When reporting percentages, the denominator (i.e., total number of scholars or program graduates) must be provided.

(2) The project will increase the number of personnel who demonstrate the competencies needed to provide (a) focused instruction, and (b) intense individualized intervention(s) in an interdisciplinary team-based approach to address the individualized needs of children with disabilities who have high-intensity needs, ages birth through 21, that result in improvements in learning or developmental outcomes (e.g., academic, social, emotional, behavioral), or successful transition to postsecondary education and the workforce. To address this requirement, the applicant must—

(i) Identify the competencies ⁵ that special education, early intervention, or related services personnel need in order to ensure delivery of (a) focused instruction, and (b) intense individualized intervention(s) in an interdisciplinary team-based approach that will: Lead to improved learning and developmental outcomes; ensure access to and progress in academic achievement standards or alternate academic achievements standards, as appropriate; lead to successful transition to college and career for children with disabilities, including children with disabilities who have high-intensity needs; and maximize the use of effective technology to deliver instruction, interventions, and services;

⁵ For the purposes of this priority, the term “competencies” means what a person knows and can do: The knowledge, skills, and dispositions necessary to effectively function in a role (National Professional Development Center on Inclusion, 2011). These competencies should ensure that personnel are able to use challenging academic standards, child achievement and functional standards, and assessments to improve instructional practices, services, learning and developmental outcomes (e.g., academic, social, emotional, behavioral), and college- and career-readiness of children with disabilities.

(ii) Identify the competencies needed by members of interdisciplinary teams that will result in improved outcomes for children with disabilities who have high-intensity needs;

(iii) Identify the competencies that personnel need to support inclusion of children with disabilities in the least restrictive and natural environments to the maximum extent appropriate by intentionally promoting participation in learning and social activities to foster development, learning, academic achievement, friendships with peers, and sense of belonging; and

(iv) Provide a conceptual framework for the proposed interdisciplinary personnel preparation project, including any empirical support that will promote the acquisition of the identified competencies (see paragraph (a)(2)(i) of the requirements for this priority) needed by special education, early intervention, or related services personnel, and how these competencies relate to the proposed project.

(b) Demonstrate, in the narrative section of the application under “Quality of Project Services,” how—

(1) The project will conduct its planning activities, if the first year of the project period is used for planning.

(2) The project will recruit and retain high-quality scholars into the bachelor's (if training educational interpreters for the deaf), master's, specialist, or clinical doctoral degree programs participating in the project and ensure equal access and treatment for eligible project participants who are members of groups that have traditionally been underrepresented based on race, color, national origin, gender, age, or disability. To meet this requirement, the applicant must—

(i) Describe criteria the applicant will use to identify high-quality applicants for admission into the degree programs participating in the project;

(ii) Describe the recruitment strategies the applicant will use to attract high-quality applicants and any specific recruitment strategies targeting high-quality applicants from traditionally underrepresented groups, including individuals with disabilities; and

(iii) Describe the approach, including mentoring, monitoring, and accommodations, the applicant will use to support scholars to complete their respective degree programs.

(3) The project reflects current practices supported by evidence and is designed to prepare scholars in the identified competencies. To address this requirement, the applicant must—

(i) Describe how the project will incorporate current practices supported by evidence (including relevant research citations) that improve outcomes for children with disabilities who have high-intensity needs into (a) the required coursework and clinical experiences for each personnel preparation program participating in the project; and (b) the shared coursework, group assignments, and coordinated clinical experiences required for the interdisciplinary portions of the project; and

(ii) Describe how the project will use professional development practices supported by evidence for adult learners to instruct scholars.

(4) The project is of sufficient quality, intensity, and duration to prepare scholars in the identified competencies. To address this requirement, the applicant must describe how—

(i) The components of (a) each personnel preparation program participating in the project; and (b) the shared coursework, group assignments, and coordinated clinical experiences required for the interdisciplinary portions of the proposed project will support scholars' acquisition and enhancement of the identified competencies;

(ii) The components of (a) each personnel preparation program participating in the project and (b) the shared coursework, group assignments, and coordinated clinical experiences required for the interdisciplinary portions of the proposed project will be integrated to allow scholars to use their knowledge and skills in designing, implementing, and evaluating practices supported by evidence to address the learning and developmental needs of children with disabilities who have high-intensity needs in collaboration with other team members;

(iii) Scholars will be provided with ongoing guidance and feedback during training; and

(iv) The proposed project will provide ongoing induction opportunities and mentoring support to graduates of each personnel preparation program participating in the project.

(5) The project will collaborate with appropriate partners, including—

(i) High-need schools, which are high-poverty schools,⁶ low-performing schools,⁷ or publicly funded preschool programs, including Head Start programs and programs serving children eligible for services under IDEA Part C and Part B, section 619, that are located within the geographic boundaries of a high-need LEA. The purpose of these partnerships is to provide clinical practice for scholars aimed at developing the identified competencies as members of interdisciplinary teams; and

⁶ For the purposes of this priority, the term “high-poverty school” means a school that is in the highest two quartiles of schools served by a local educational agency, based on the percentage of enrolled students from low-income families as defined in section 1113(a)(5) of the Elementary and Secondary Education Act of 1965, as amended (ESEA).

⁷ For the purpose of this priority, the term “low-performing school” means a school receiving assistance through Title I of the ESEA that, at the time of submission of an application under this competition, is (1) identified as a school in need of corrective action or restructuring under section 1116 of the ESEA, as amended by the No Child Left Behind Act of 2001 (NCLB); or (2) identified as a priority or focus school in a State that implemented ESEA flexibility. The inclusion of these schools as “low-performing schools” reflects the fact that the 2016-2017 school year is a year of transition between requirements of the ESEA as amended by NCLB and the ESEA as amended by the Every Student Succeeds Act.

Note: A State that received ESEA flexibility was not required to identify schools in corrective action or restructuring under section 1116 of the ESEA; rather, the State identified priority and focus schools. Moreover, with the enactment of the Every Student Succeeds Act (ESSA), no State, beginning in the 2017-2018 school year, will identify schools in corrective action or restructuring under section 1116 of the ESEA or identify schools as priority and focus schools under ESEA flexibility. Therefore, consistent with section 5(e)(2) of the ESSA, the U.S. Department of Education (Department) will allow applicants to consider the following schools as low-performing schools: (1) Elementary and secondary schools identified, at the time of submission of an application under this competition, as in need of corrective action or restructuring under the ESEA, as amended by NCLB; (2) elementary and secondary schools identified, at the time of submission of an application under this competition, as a priority or focus school by a State under ESEA flexibility; and (3) secondary schools (both middle and high schools) in a State that are, at the time of submission of an application under this competition, equally as low-achieving as the Title I schools above and are eligible for, but do not receive, Title I funds.

(ii) Other programs on campus or at partnering universities for the purpose of sharing resources, supporting program development and delivery, and addressing personnel shortages.

(6) The project will use technology, as appropriate, to promote scholar learning and professional practice, enhance the efficiency of the project, collaborate with partners, and facilitate ongoing mentoring and support for scholars.

(7) The project will ensure that scholars understand how to use technology to support student learning; and

(8) The project will align with and use resources, as appropriate, available through technical assistance centers, which may include centers funded by the Department.

Note: Use our “Find a Center” at www.osepideasthatwork.org for information about the Office of Special Education Programs (OSEP) funded national centers.

(c) Demonstrate, in the narrative section of the application under “Quality of Project Evaluation,” how—

(1) The applicant will use comprehensive and appropriate methodologies to evaluate how well the goals or objectives of the proposed project have been met, including the project processes and outcomes.

(2) The applicant will collect, analyze, and use data related to specific and measurable goals, objectives, and outcomes of the project. To address this requirement, the applicant must describe—

(i) How scholar competencies and other project processes and outcomes will be measured for formative evaluation purposes, including proposed instruments, data collection methods, and possible analyses; and

(ii) How data on the quality of services provided by proposed project graduates, including data on the learning and developmental outcomes (e.g., academic, social, emotional, behavioral, meeting college- and career-ready standards) and on growth toward these outcomes of the children with disabilities who have high-intensity needs that the project graduates serve, will be collected and analyzed.

Note: Following the completion of the project period, grantees are encouraged to engage in ongoing data collection activities.

(3) The methods of evaluation will produce quantitative and qualitative data for objective performance measures that are related to the outcomes of the proposed project.

(4) The methods of evaluation will provide performance feedback and allow for periodic assessment of progress towards meeting the project outcomes. To address this requirement, the applicant must describe how—

(i) Results of the evaluation will be used as a basis for improving the proposed project to prepare special education, early intervention, or related services personnel to provide (a) focused instruction, and (b) intense individualized intervention(s) in an interdisciplinary team-based approach to improve outcomes of children with disabilities who have high-intensity needs; and

(ii) The grantee will report the evaluation results to OSEP in its annual and final performance reports.

(d) Demonstrate, in the narrative under “Project Assurances,” or appendices, as applicable, that the following program requirements are met. The applicant must—

(1) Include, in the application as Appendix B, brief syllabi for required courses, seminars, and field experiences of the degree programs participating in the project, such as—

(i) Syllabi for shared courses, seminars, and coordinated clinical experiences; and

(ii) Proposed syllabi for new courses.

(2) Ensure that a comprehensive set of completed syllabi, including syllabi created or revised as part of a project planning year, are submitted to OSEP by the end of Year 1 of the grant.

(3) Ensure scholars will not be selected based on race, ethnicity, or national origin. Per the Supreme Court's decision in Adarand Constructors, Inc. v. Pena, 515 U.S. 200 (1995), the Department does not allow the selection of individuals on the basis of race, ethnicity, or national origin. For this reason, grantees must ensure that any discussion of the recruitment of scholars based on race, ethnicity, or national origin distinguishes between increasing the pool of applicants and actually selecting scholars.

(4) Ensure that the project will meet all requirements for grantees in disbursing scholarships as outlined in 34 CFR 304.22. Failure by a grantee to properly meet these requirements would be a violation of the grant award that could result in sanctions, including the grantee being liable for returning any misused funds to the Department. Specifically, before disbursement of scholarship assistance to an individual, a grantee must—

(a) Ensure that the scholar—

(1) Is a citizen or national of the United States;

(2) Is a permanent resident of—

(i) Puerto Rico, the United States Virgin Islands, Guam, American Samoa, or the Commonwealth of the Northern Mariana Islands; or

(ii) The Republic of the Marshall Islands, the Federated States of Micronesia, or the Republic of Palau during the period in which these entities are eligible to receive an award under the Personnel Development to Improve Services and Results for Children with Disabilities program; or

(3) Provides evidence from the U.S. Department of Homeland Security that the individual is—

(i) A lawful permanent resident of the United States; or

(ii) In the United States for other than a temporary purpose with the intention of becoming a citizen or permanent resident;

(b) Limit the cost of attendance portion of the scholarship assistance (as discussed in 34 CFR 304.21(a)) to the amount by which the individual's cost of attendance at the institution exceeds the amount of grant assistance the scholar is to receive for the same academic year under title IV of the HEA; and

(c) Obtain a Certification of Eligibility for Federal Assistance from each scholar, as prescribed in 34 CFR 75.60, 75.61, and 75.62.

(5) Ensure that the project will meet all requirements in 34 CFR 304.23, particularly those related to informing all scholarship recipients of their service obligation commitment. Failure by a grantee to properly meet these requirements would be a violation of the grant award that could result in sanctions, including the grantee being liable for returning any misused funds to the Department. Specifically, the grantee must prepare, and ensure that each scholarship recipient signs, the following two documents:

(i) A Pre-Scholarship Agreement prior to the scholar receiving a scholarship for an eligible program (Office of Management and Budget (OMB) Control Number 1820-0686); and

(ii) An Exit Certification immediately upon the scholar leaving, completing, or otherwise exiting that program (OMB Control Number 1820-0686).

(6) Ensure that prior approval from the OSEP project officer will be obtained before admitting additional scholars beyond the number of scholars proposed in the application and before transferring a scholar to another OSEP-funded grant.

(7) Ensure that the project will meet the statutory requirements in section 662(e) through 662(h) of IDEA.

(8) Ensure that at least 65 percent of the total requested budget over the five years will be used for scholar support. Applicants proposing to use Year 1 for program development may budget for less than 65 percent of the total requested budget over the five years for scholar support; instead 65 percent of the total award minus funds allocated for program development will be used to calculate the value of required scholar support.

(9) Ensure that the institution of higher education (IHE) will not require scholars enrolled in the program to work (e.g., as graduate assistants) as a condition of receiving support (e.g., tuition, stipends) from the proposed project, unless the work is specifically related to the acquisition of scholars' competencies and the requirements for completion of their personnel preparation program. This prohibition on work as a condition of receiving support does not apply to the service obligation requirements in section 662(h) of IDEA.

(10) Ensure that the budget includes attendance of the project director at a three-day project directors' meeting in Washington, DC, during each year of the project.

(11) Ensure that the project director, key personnel, and scholars will actively participate in the cross-project collaboration, advanced trainings, and cross-site learning opportunities (e.g., webinars, briefings) organized by OSEP. This partnership will be used to build capacity of participants, increase the impact of funding, and innovative and interdisciplinary service delivery models across projects.

(12) Ensure that if the project maintains a Web site, relevant information and documents are in a format that meets government or industry-recognized standards for accessibility.

(13) Ensure that annual data will be submitted on each scholar who receives grant support (OMB Control Number 1820-0686). The primary purposes of the data collection are to track the service obligation fulfillment of scholars who receive funds from OSEP grants and to collect data for program performance measure reporting under the Government Performance and Results Act of 1993 (GPRA). Applicants are encouraged to visit the Personnel Development Program Data Collection System (DCS) Web site at https://pdp.ed.gov/osep for further information about this data collection requirement. Typically, data collection begins in January of each year, and grantees are notified by email about the data collection period for their grant, although grantees may submit data as needed, year round. This data collection must be submitted electronically by the grantee and does not supplant the annual grant performance report required of each grantee for continuation funding (see 34 CFR 75.590). Data collection includes the submission of a signed, completed Pre-Scholarship Agreement and Exit Certification for each scholar funded under an OSEP grant (see paragraph (4) of this section, subparagraphs (i) and (ii)).

Focus Areas: Within this absolute priority, the Secretary intends to support interdisciplinary projects under the following two focus areas: (A) Preparing Personnel to Serve Infants, Toddlers, and Preschool-Age Children with Disabilities who have High-Intensity Needs; and (B) Preparing Personnel to Serve School-Age Children with Disabilities who have High-Intensity Needs.

Note: Interdisciplinary projects are encouraged for personnel preparation programs serving educational interpreters, but are not required.

Note: Applicants must identify the specific focus area (i.e., A or B) under which they are applying as part of the competition title on the application cover sheet (SF form 424, line 4). Applicants may not submit the same proposal under more than one focus area.

Focus Area A: Preparing Personnel To Serve Infants, Toddlers, and Preschool-Age Children With Disabilities Who Have High-Intensity Needs. OSEP intends to fund nine awards under this focus area. For the purpose of Focus Area A, early intervention personnel are those who are prepared to provide services to infants and toddlers with disabilities ages birth to three, and early childhood personnel are those who are prepared to provide services to children with disabilities ages three through five (and in States where the age range is other than ages three through five, we will defer to the State's certification for early childhood). In States where certification in early intervention is combined with certification in early childhood, applicants may propose a combined early intervention and early childhood personnel preparation project under this focus area. For purposes of this focus area, interdisciplinary projects are projects that deliver core content through shared coursework, group assignments, and coordinated clinical experiences shared across disciplines for: (a) Early intervention providers or early childhood special educators and related services personnel who serve infants, toddlers, and preschool-age children with disabilities who have high-intensity needs; or (b) projects preparing only related services personnel to serve infants, toddlers, and preschool-age children with disabilities who have high-intensity needs.

Note: In Focus Area A, OSEP intends to fund in FY 2017 at least three high-quality applications from Minority-Serving IHEs,⁸ including a minimum of one Historically Black College or University (HBCU) and, as a result, may fund applications out of rank order.

⁸ For the purposes of this priority, the term “Minority-Serving IHEs” refers to IHEs with a minority enrollment of 50 percent or more, which may include Historically Black Colleges and Universities, Tribal Colleges, and Predominantly Hispanic Serving Colleges and Universities.

Focus Area B: Preparing Personnel To Serve School-Age Children With Disabilities Who Have High-Intensity Needs. OSEP intends to fund 27 awards under this focus area. For the purpose of Focus Area B, personnel who serve children with disabilities who have high-intensity needs are special education teachers or related services providers prepared to serve school-age children with disabilities who have high-intensity needs. For purposes of this focus area, interdisciplinary projects are: (a) Projects that deliver core content through shared coursework, group assignments, and coordinated clinical experiences shared across disciplines for special education teachers and related services personnel who serve school-age children with disabilities who have high-intensity needs; or (b) projects preparing only related services personnel to serve school-age children with disabilities who have high-intensity needs.

Note: In Focus Area B, OSEP intends to fund in FY 2017 at least eight high-quality applications from Minority-Serving IHEs including a minimum of two HBCUs and, as a result, may fund applications out of rank order.

Note: A project funded under Focus Area A or B may budget for less than the 65 percent required for scholar support in Year 1 if the first year of the proposed project will be used for planning new or improved coursework, group assignments, or coordinated clinical experience needed to support interdisciplinary preparation for special education, early intervention, or related services personnel serving children with disabilities who have high-intensity needs, and the applicant can provide sufficient justification for a designation less than this required percentage. Sufficient justification for proposing less than 65 percent of the budget for scholar support in Year 1 would include support for activities, such as—

(1) Program improvement to develop and deliver shared coursework, group assignments, and coordinated clinical experience needed to support interdisciplinary preparation for personnel across two or more master's, specialist or clinical doctorate degree programs (e.g., hiring of a new faculty member or consultant to assist in course development, providing professional development and training for faculty and clinical supervisors, negotiating agreements with schools to serve as sites for coordinated clinical experience). In the initial project year, scholar support would not be required. The project must demonstrate that the newly established coursework and coordinated clinical experience is approved and ready for implementation in order to receive continuation funds in Year 2.

(2) Building capacity (e.g., hiring of a clinical practice supervisor, providing professional development and training for faculty) or purchasing needed resources (e.g., additional teaching supplies or specialized equipment to enhance instruction).

Note: Applicants proposing projects to develop, expand, or add a new area of emphasis to special education, early intervention, or related services programs must provide, in their applications, information on how these new areas will be sustained once Federal funding ends.

References

Boe, E.E., deBettencourt, L., Dewey, J.F., Rosenberg, M.S., Sindelar, P.T., & Leko, C.D. (2013). Variability in demand for special education teachers: Indicators, explanations, and impacts. Exceptionality, 21, 103-125.

Browder, D.M., Wood, L., Thompson, J., & Ribuffo, C. (2014). Evidence-based practices for students with severe disabilities (Document No. IC-3). Retrieved from University of Florida, Collaboration for Effective Educator, Development, Accountability, and Reform Center Web site: http://ceedar.education.ufl.edu/tool/innovation-configurations/.

Individuals with Disabilities Education Act, 20 U.S.C. 1400, et seq. (2004).

McLeskey, J., & Brownell, M. (2015). High-leverage practices and teacher preparation in special education (Document No. PR-1). Retrieved from University of Florida, Collaboration for Effective Educator, Development, Accountability, and Reform Center Web site: http://ceedar.education.ufl.edu/wp-content/uploads/2016/05/High-Leverage-Practices-and-Teacher-Preparation-in-Special-Education.pdf.

National Professional Development Center on Inclusion. (August, 2011). Competencies for early childhood educators in the context of inclusion: Issues and guidance for States. Chapel Hill, NC: The University of North Carolina, FPG Child Development Institute, Author.

Smith, J. (2010). An interdisciplinary approach to preparing early intervention professionals: A university and community collaborative initiative. Teacher Education and Special Education, 33(2), 131-142.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462 and 1481.

Applicable Regulations: (a) The Education Department General Administrative Regulations (EDGAR) in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 79 apply to all applicants except federally recognized Indian tribes.

Note: The regulations in 34 CFR part 86 apply to IHEs only.

II. Award Information

Type of Award: Discretionary grants.

Estimated Available Funds: The Administration has requested $83,700,000 for the Personnel Development to Improve Services and Results for Children with Disabilities program for FY 2017, of which we intend to use an estimated $9,000,000 for this competition. The actual level of funding, if any, depends on final congressional action. However, we are inviting applications to allow enough time to complete the grant process if Congress appropriates funds for this program.

Contingent upon the availability of funds and the quality of applications, we may make additional awards in FY 2018 from the list of unfunded applicants from this competition.

Estimated Range of Awards: See chart.

Estimated Average Size of Awards: See chart.

Maximum Award: See chart.

Estimated Number of Awards: See chart.

Project Period: See chart.

Personnel Development To Improve Services and Results for Children With Disabilities (84.325K) Application Notice for Fiscal Year 2017
CFDA number and name | Applications available | Deadline for transmittal of applications | Deadline for intergovern- mental review | Estimated range of awards | Estimated average size of awards | Maximum award for each budget period of 12 months | Estimated number of awards | Project period | Contact person
84.325K Interdisciplinary Preparation in Special Education, Early Intervention, and Related Services for Personnel Serving Children with Disabilities who have High-Intensity Needs | January 3, 2017 | March 6, 2017 | May 3, 2017 |  |  |  |  |
Focus Area A: Preparing Personnel to Serve Infants, Toddlers, and Preschool-Age Children with Disabilities who have High-Intensity Needs |  |  |  | $200,000- $250,000 | $250,000 | * $250,000 | 9 | Up to 60 mos | Focus Area A or Minority Serving Institutions: Dawn Ellis, 202-245-6417, dawn.ellis@ed.gov, Potomac Center Plaza, Room 5137.
Focus Area B: Preparing Personnel to Serve School-Age Children with Disabilities who have High-Intensity Needs |  |  |  | $200,000- $250,000 | $250,000 | * $250,000 | 27 | Up to 60 mos | Focus Area B: Maryann McDermott, 202-245-7439, maryann.mcdermott@ed.gov, Potomac Center Plaza, Room 5144. or Sarah Allen, 202-245-7875, sarah.allen@ed.gov, Potomac Center Plaza, Room 5144.
* We will reject any application that proposes a budget exceeding the maximum award for a single budget period of 12 months.

Note: The Department is not bound by any estimates in this notice.

Evaluation Period: In August 2013, the Department amended the EDGAR to authorize the award of an evaluation period after the end of the approved project period. 34 CFR 75.250 allows for an evaluation period for the sole purpose of data collection, analysis, and reporting. The full text of this regulation is included in the application package.

Under 34 CFR 75.250(b) the Secretary has the authority to make data collection/analysis awards. By the terms of that section, the awards can only go to current grantees, may only be used for data collection, analysis and reporting and do not have to go through a formal competitive process.

III. Eligibility Information

1. Eligible Applicants: IHEs, private nonprofit organizations.

2. Cost Sharing or Matching: This program does not require cost sharing or matching.

3. Eligible Subgrantees: (a) Under 34 CFR 75.708(b) and (c) a grantee may award subgrants—to directly carry out project activities described in its application—to the following types of entities: IHEs and private nonprofit organizations suitable to carry out the activities proposed in the application.

(b) The grantee may award subgrants to entities it has identified in an approved application.

4. Other General Requirements:

(a) Recipients of funding under this competition must make positive efforts to employ and advance in employment qualified individuals with disabilities (see section 606 of IDEA).

(b) Each applicant for, and recipient of, funding must, with respect to the aspects of their proposed project, involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325K.

Individuals with disabilities can obtain a copy of the application package in an accessible format (e.g., braille, large print, audiotape, or compact disc) by contacting the person or team listed under Accessible Format in section VIII of this notice.

2. Content and Form of Application Submission: Requirements concerning the content and form of an application, together with the forms you must submit, are in the application package for this competition.

Page Limit: The application narrative (Part III of the application) is where you, the applicant, address the selection criteria that reviewers use to evaluate your application. You must limit Part III to no more than 50 pages, using the following standards:

• A “page” is 8.5” x 11”, on one side only, with 1” margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirements do not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirements do apply to all of Part III, the application narrative, including all text in charts, tables, figures, graphs, and screen shots.

We will reject your application if you exceed the page limit in the application narrative section, or if you apply standards other than those specified in this notice and the application package.

3. Submission Dates and Times:

Applications Available: January 3, 2017.

Deadline for Transmittal of Applications: March 6, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: May 3, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Interdisciplinary Preparation in Special Education, Early Intervention, and Related Services for Personnel Serving Children with Disabilities who have High-Intensity Needs competition, CFDA number 84.325K, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Interdisciplinary Preparation in Special Education, Early Intervention, and Related Services for Personnel Serving Children with Disabilities who have High-Intensity Needs competition at www.Grants.gov. You must search for the downloadable application package for this competition by the CFDA number. Do not include the CFDA number's alpha suffix in your search (e.g., search for 84.325, not 84.325K).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Maryann McDermott, U.S. Department of Education, 400 Maryland Avenue SW., Room 5144, Potomac Center Plaza, Washington, DC 20202-5108. FAX: (202) 245-7439.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.325K), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.325DK), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under GPRA, the Department has established a set of performance measures, including long-term measures, that are designed to yield information on various aspects of the effectiveness and quality of the Personnel Development to Improve Services and Results for Children with Disabilities program. These measures include: (1) The percentage of preparation programs that incorporate scientifically or evidence-based practices into their curricula; (2) the percentage of scholars completing preparation programs who are knowledgeable and skilled in evidence-based practices for children with disabilities; (3) the percentage of scholars who exit preparation programs prior to completion due to poor academic performance; (4) the percentage of scholars completing preparation programs who are working in the area(s) in which they were prepared upon program completion; and (5) the Federal cost per scholar who completed the preparation program.

In addition, the Department will gather information on the following outcome measures: (1) The percentage of scholars who completed the preparation program and are employed in high-need districts; (2) the percentage of scholars who completed the preparation program and are employed in the field of special education for at least two years; and (3) the percentage of scholars who completed the preparation program and who are rated effective by their employers.

Grantees may be asked to participate in assessing and providing information on these aspects of program quality.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Maryann McDermott, U.S. Department of Education, 400 Maryland Avenue SW., Room 5144, Potomac Center Plaza, Washington, DC 20202-5108. Telephone: (202) 245-7439.

If you use a TDD or a TTY, call the Federal Relay Service (FRS), toll free, at 1-800-877-8339.

VIII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: December 28, 2016.
Sue Swenson,
Deputy Assistant Secretary, delegated the authority to perform the functions and duties of the Assistant Secretary.

[FR Doc. 2016-31838 Filed 12-30-16; 8:45 am]

BILLING CODE 4000-01-P